DEPARTMENT OF ENERGY

Federal Energy Regulatory Commission

[Project No. 12462-000]

Indian River Power Supply, LLC; Notice of Competing Application Accepted for Filing With the Commission

December 22, 2004.

Take notice that the following hydroelectric application has been filed with the Commission and is available for public inspection.

a. Type of Application: 5-MW Exemption.

b. Project No.: 12462-000.

c. Date Filed: July 28, 2003.

d. Applicant: Indian River Power Supply, LLC.

e. Name of Project: Indian River.

f. Location: On the Westfield River, in the Town of Russell, Hampden County, Massachusetts.

g. Filed Pursuant to: Public Utility Regulatory Policies Act of 1978, 16 U.S.C. 2705, 2708.

h. Applicant Contact: Peter B. Clark, P.O. Box 149, Hamilton, Massachusetts 01936.

i. FERC Contact: Michael Spencer, (202) 502-6093, michael.spencer@ferc.fed.

j. Deadline for Filing Comments, Recommendations, Motions to Intervene and Protests: 60 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, motions to intervene and protests may be filed electronically via the Internet in lieu of paper. The Commission strongly encourages electronic filings. See 18 CFR 385.2001(a)(1)(iii) and the instructions on the Commission's Web site (http://www.ferc.gov) under the “e-Filing” link.

k. Competing Application: 12430-000.

Date Filed: December 27, 2002.

Due Date: March 31, 2003.

l. This application has been accepted, but is not ready for environmental analysis at this time.

m. The Indian River Project would consist of: (1) The existing 30-foot-high, 425-foot-long Russell dam with flashboards; (2) a 14.11 acre reservoir; (3) a rackhouse for intake of the reservoir flow; (4) two 7-foot-diameter, 60-foot-long penstocks; (5) a powerhouse containing two generating units with a combined capacity of 700 kW and an estimated average annual generation of 3.2 GWh; (6) a 60-foot-long tailrace; (7) a 400-foot-long transmission line; and (8) appurtenant facilities.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

o. Public notice of the filing of the preliminary permit application, which has already been given, established the due date for filing competing applications or notices of intent. Under the Commission's regulations, any competing development application must be filed in response to and in compliance with public notice of the preliminary permit application. No competing applications or notices of intent may be filed in response to this notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Linda Mitry,
Deputy Secretary.

[FR Doc. E4-3886 Filed 12-29-04; 8:45 am]

BILLING CODE 6717-01-P